DEPARTMENT OF AGRICULTURE

Submission for OMB Review; Comment Request

The Department of Agriculture has submitted the following information collection requirement(s) to Office of Management and Budget (OMB) for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by May 18, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: Broadband Technical Assistance Program.

OMB Control Number: 0572-NEW.

Summary of Collection: The Rural eConnectivity Program (ReConnect) was authorized under 7 U.S.C. 901 et seq., and Public Law 115-141, 779. The Funding Opportunity Announcement (FOA) will use technical assistance funds appropriated under the Infrastructure Investment and Jobs Act (IIJA) (Pub. L. 117-58). Applications received under the FOA will be administered by the Rural Utilities Service (RUS or the Agency), a Rural Development (RD) agency of the United States Department of Agriculture. The assistance instrument for this program will be through cooperative agreements which RD is authorized to administer pursuant to 7 U.S.C. 2204b(b)(4).

This FOA provides competitive cooperative agreement funding to eligible entities to ensure technical assistance and training is delivered to rural communities in need of high-speed internet and rural broadband providers. Program funds must be used to support broadband technical assistance activities which include, but are not limited to, project planning and community engagement, operations support, financial sustainability, environmental compliance, engineering, accessing federal resources, and data collection and reporting. The goal of the program is to support the expansion of high-speed internet into unserved rural communities.

Need and Use of the Information: Applications submitted for consideration will be reviewed for eligibility and completeness. Applications determined to be eligible will be evaluated according to the scoring criteria outlined in the FOA. The scoring criterion is targeted to applicants that demonstrate strong work plans, organizational capacity, clear performance metrics, and the ability to reach the most rural communities. Points are also available for projects benefitting targeted groups such as Tribes and Tribal Entities, colonias, persistent poverty counties, and distressed energy communities.

Failure to collect proper information from applicants could hinder the government's selection of funding recipients, and result in improper determinations of assistance, increase legal costs to the recipients as well as encumber customer service and, ultimately, slow the deployment of assistance to rural areas in need of high-speed internet. The timing of technical assistance is critical due to the historic levels of broadband funding made available under the IIJA. The programs created and funded under the IIJA are beginning to disburse funding and technical assistance is critical to ensure unserved rural communities are able to participate in these programs, successfully implement projects and properly manage funds.

Description of Respondents: Individuals and Households.

Number of Respondents: 50.

Frequency of Responses: Reporting: Annually.

Total Burden Hours: 1,255.

Levi S. Harrell,
Departmental Information Collection Clearance Officer.

[FR Doc. 2023-08172 Filed 4-17-23; 8:45 am]

BILLING CODE 3410-15-P